Title 3—

The President

Executive Order 13376 of April 13, 2005

Amendments to Executive Order 12863, Relating to the President's Foreign Intelligence Advisory Board

By the authority vested in me as President by the Constitution and the laws of the United States of America, including the Intelligence Reform and Terrorism Prevention Act of 2004 (Public Law 108-458), and to update and clarify Executive Order 12863, which created the President's Foreign Intelligence Advisory Board, Executive Order 12863 of September 13, 1993, as amended by Executive Orders 13070 of December 15, 1997, and 13301 of May 14, 2003, is further amended as follows:

(a)

effective upon appointment of the Director of National Intelligence, by striking “Director of Central Intelligence” each place it appears and inserting in lieu thereof “Director of National Intelligence”; and

(b)

by adding at the end thereof the following new section:

“Sec. 3.4. This order is intended only to improve the internal management of the executive branch of the Federal Government, and is not intended to, and does not, create any right or benefit, substantive or procedural, enforceable at law or in equity, against the United States, its departments, agencies, or other entities, its officers or employees, or any other person.”.

B

THE WHITE HOUSE,

April 13, 2005.

[FR Doc. 05-7830

Filed 4-15-05; 8:45 am]

Billing code 3195-01-P